DEPARTMENT OF COMMERCE

International Trade Administration

[C-507-601]

Certain In-shell Roasted Pistachios from the Islamic Republic of Iran: Preliminary Results of Countervailing Duty New Shipper Review

AGENCY: Import Administration, International Trade Administration, Department of Commerce.

SUMMARY: The Department of Commerce (the Department) is conducting a new shipper review of the countervailing duty (CVD) order on certain in-shell roasted pistachios from the Islamic Republic of Iran (Iran) for the period January 1, 2006, through December 31, 2006. For information on the net subsidy rate for the reviewed company, please see the “Preliminary Results of Review” section of this notice. Interested parties are invited to comment on these preliminary results. (See the “Public Comment” section of this notice).

EFFECTIVE DATE: November 28, 2007.

FOR FURTHER INFORMATION CONTACT: Christopher Hargett, AD/CVD Operations, Office 3, Import Administration, U.S. Department of Commerce, Room 4014, 14th Street and Constitution Avenue NW, Washington, DC 20230; telephone (202) 482-4161.

SUPPLEMENTARY INFORMATION:

Background

On October 7, 1986, the Department published in the Federal Register the countervailing duty order on certain in-shell roasted pistachios from Iran. See Final Affirmative Countervailing Duty Determination and Countervailing Duty Order: Roasted In-shell Pistachios from Iran, 51 FR 35679 (October 7, 1986). On March 21, 2007, the Department received a timely request for a new shipper review from Kerman Corporation (Kerman) on behalf of Ahmadi's Agricultural Productions, Processing and Trade Complex (Ahmadi). See Letter from Ali R. Ahmadi, Kerman Corporation, dated March 21, 2007. On June 1, 2007, the Department published the notice of initiation of this new shipper review for the period of review (POR) of January 1, 2006, through December 31, 2006. See Certain In-shell Roasted Pistachios from the Islamic Republic of Iran: Notice of Initiation of Countervailing Duty New Shipper Review, 72 FR 30547 (June 1, 2007).

On June 6, 2007, we issued our initial questionnaire to the Government of Iran (GOI) and Ahmadi, to which Ahmadi and the GOI submitted responses on August 3 and September 14, 2007, respectively. On September 10, 2007, the Department issued a supplemental questionnaire to Ahmadi and Ahmadi submitted a response on October 1, 2007. On October 3, 2007, the Department issued a supplemental questionnaire to the GOI. The GOI did not respond to the supplemental questionnaire.

On October 4, 2007, the Western Pistachio Commission (petitioner) submitted additional subsidy allegations regarding certain programs provided by the GOI. On November 13, 2007, the Department issued supplemental questions to petitioners regarding their additional subsidy allegations. The supplemental information is due to the Department on November 27, 2007, and will be addressed in the final results of this proceeding.

On November 13, 2007, petitioner submitted comments regarding the Department's preliminary results. The Department intends to address these concerns as part of the Public Comment phase of this proceeding, as discussed below.

In accordance with section 751(a)(2)(B) of the Tariff Act of 1930, as amended (the Act), and 19 CFR 351.214(a), this new shipper review covers only merchandise produced and exported by Ahmadi, for which a review was specifically requested.

Scope of Order

The product covered by this order is all roasted in-shell pistachio nuts, whether roasted in Iran or elsewhere, from which the hulls have been removed, leaving the inner hard shells and edible meat, as currently classifiable in the Harmonized Tariff Schedules of the United States (HTSUS) under item number 0802.50.20.00. The HTSUS subheading is provided for convenience and customs purposes. The written description of the scope of this proceeding is dispositive.

Analysis of Programs

I. Programs Preliminarily Determined to Be Not Used

Based on the information supplied by Kerman on behalf of Ahmadi, we preliminarily determine that the programs listed below were not used during the POR.

A. Provision of Fertilizer and Machinery

B. Provision of Credit

C. Tax Exemptions

D. Provision of Water and Irrigation Equipment

E. Technical Support

F. Duty Refunds on Imported Raw or Intermediate Materials Used in the Production of Export Goods

G. Program to Improve Quality of Exports of Dried Fruit

H. Iranian Export Guarantee Fund

I. GOI Grants and Loans to Pistachio Farmers

J. Crop Insurance for Pistachios

New Shipper Review Bona Fide Analysis

Consistent with the Department's practice, we investigated the bona fide nature of the sales made by Ahmadi for this new shipper review. The Department reviewed import data provided by U.S. Customs and Border Protection (CBP), and compared the quantity and value of the only shipment by Ahmadi to the United States to imports of subject merchandise by other companies. We also reviewed information on the record with regard to the commercial legitimacy of Ahmadi, Kerman, and the unaffiliated sale in the United States. We find that there is nothing on the record to question the bona fides of Ahmadi's sale. Therefore, for purposes of these preliminary results of review, we are treating Ahmadi's sale of subject merchandise to the United States as bona fide for this new shipper review. See Memo to the file from Eric B. Greynolds, Program Manager, Office 3, Operations, entitled, “Preliminary Bona Fide Sales Analysis.”

Preliminary Results of Review

In accordance with 19 CFR 351.221(b)(4)(i), we have calculated an individual subsidy rate for Ahmadi, the only producer/exporter subject to this proceeding, for the POR, i.e., calendar year 2006. We preliminarily determine that the total estimated net countervailable subsidy rate is 0.00 percent ad valorem.

We intend to issue the following cash deposit requirements, effective upon publication of the notice of final results of review for all shipments of subject merchandise entered, or withdrawn from warehouse, for consumption on or after the date of publication: (1) for merchandise produced and exported by Ahmadi, the cash deposit rate will be 0.00 percent, (2) the rate calculated for merchandise exported by Ahmadi but not produced by Ahmadi, the cash deposit rate will be the all-others rate established in the original CVD investigation (see 51 FR 35679 (October 7, 1986)); (3) if the exporter is not a firm covered in this review, a prior review, or the original CVD investigation, but the producer is, the cash deposit rate will be the rate established for the most recent period for the producer of the merchandise; and (4) if neither the exporter nor producer is a firm covered in this review or the original investigation, the cash deposit rate for all other producers or exporters of the subject merchandise will continue to be 99.52 percent ad valorem. This rate is the all-others rate from the final determination in the original investigation.

If the final results of this review remain the same as these preliminary results, the Department intends to issue instructions to CBP 15 days after the date of publication of the final results of this review to liquidate without regard to countervailing duties all shipments of subject merchandise produced and exported by Ahmadi, entered, or withdrawn from warehouse, for consumption during the POR. Should the final results of this review remain the same as these preliminary results, the Department also will instruct CBP not to collect cash deposits of estimated countervailing duties on all shipments of the subject merchandise produced and exported by Ahmadi, entered, or withdrawn from warehouse, for consumption on or after the date of publication of the final results of this new shipper review.

Public Comment

Pursuant to 19 CFR 351.224(b), the Department will disclose to parties to the proceeding any calculations performed in connection with these preliminary results within five days after the date of the public announcement of this notice. Pursuant to 19 CFR 351.309, interested parties may submit written comments in response to these preliminary results. Unless otherwise indicated by the Department, case briefs must be submitted within 30 days after the publication of these preliminary results. Rebuttal briefs, which are limited to arguments raised in case briefs, must be submitted no later than five days after the time limit for filing case briefs, unless otherwise specified by the Department. Parties who submit argument in this proceeding are requested to submit with the argument: (1) a statement of the issue, and (2) a brief summary of the argument. Parties submitting case and/or rebuttal briefs are requested to provide the Department copies of the public version on disk. Case and rebuttal briefs must be served on interested parties in accordance with 19 CFR 351.303(f). Also, pursuant to 19 CFR 351.310, within 30 days of the date of publication of this notice, interested parties may request a public hearing on arguments to be raised in the case and rebuttal briefs. Unless the Secretary specifies otherwise, the hearing, if requested, will be held two days after the date for submission of rebuttal briefs.

Representatives of parties to the proceeding may request disclosure of proprietary information under administrative protective order no later than 10 days after the representative's client or employer becomes a party to the proceeding, but in no event later than the date the case briefs, under 19 CFR 351.309(c)(ii), are due. The Department will publish the final results of this administrative review, including the results of its analysis of issues raised in any case or rebuttal brief or at a hearing.

This new shipper review and notice are issued and published in accordance with sections 751(a)(2)(B) and 777(i)(1) of the Act, and 19 CFR 351.214(h) and 351.221(b)(4).

Dated: November 20, 2007.
David M. Spooner,
Assistant Secretary for Import Administration.

[FR Doc. E7-23142 Filed 11-27-07; 8:45 am]

BILLING CODE 3510-DS-S